DEPARTMENT OF THE INTERIOR

Bureau of Land Management

[LLWO2600000 L10600000 XQ0000]

Wild Horse and Burro Advisory Board Meeting

AGENCY: Bureau of Land Management, Interior.

ACTION: Notice.

SUMMARY: The Bureau of Land Management (BLM) announces that the Wild Horse and Burro Advisory Board will conduct a meeting on matters pertaining to management and protection of wild, free-roaming horses and burros on the Nation's public lands.

DATES: The Advisory Board will meet on Monday, April 14, 2014, from 8 a.m. to 5 p.m. Pacific Time (PT) and Tuesday, April 15, 2014, from 8 a.m. to 5 p.m. PT. This will be a 2-day meeting.

ADDRESSES: This Advisory Board meeting will take place in Sacramento, California, at the Courtyard by Marriott Sacramento Cal Expo, 1782 Tribute Road, Sacramento, CA 95815, 916-929-7900.

Written comments pertaining to the April 14-15, 2014, Advisory Board meeting can be mailed to National Wild Horse and Burro Program,WO-260, Attention: Ramona DeLorme, 1340 Financial Boulevard, Reno, NV 89502-7147, or sent electronically to wildhorse@blm.gov. Please include “Advisory Board Comment” in the subject line of the email.

FOR FURTHER INFORMATION CONTACT: Ramona DeLorme, Wild Horse and Burro Administrative Assistant, at 775-861-6583. Persons who use a telecommunications device for the deaf (TDD) may call the Federal Information Relay Service (FIRS) at 1-800-877-8339 to contact Ms. DeLorme during normal business hours. The FIRS is available 24 hours a day, 7 days a week, to leave a message or question for Ms. DeLorme. You will receive a reply during normal business hours.

SUPPLEMENTARY INFORMATION: The Wild Horse and Burro Advisory Board advises the Secretary of the Interior, the BLM Director, the Secretary of Agriculture, and the Chief of the Forest Service on matters pertaining to the management and protection of wild, free-roaming horses and burros on the Nation's public lands. The Wild Horse and Burro Advisory Board operates under the authority of 43 CFR 1784. The tentative agenda for the 2-day event is:

I. Advisory Board Public Meeting

Monday, April 14, 2014 (8 a.m.-5 p.m.)

8:00 a.m. Welcome and Introductions

8:30 a.m. Agenda Review

9:00 a.m. Approval of September 2013 Minutes

9:20 a.m. BLM Response to Advisory Board Recommendations

9:40 a.m. Wild Horse and Burro Program Update

11:45 a.m. Lunch

1:00 p.m. Wild Horse and Burro Program Update continued

3:00 p.m. Public Comment Period Begins

4:30 p.m. Public Comment Period Ends

5:00 p.m. Adjourn

Tuesday, April 15, 2014 (8 a.m.-5 p.m.)

8:00 a.m. Wild Horse and Burro Program Update continued

Noon Lunch

1:00 p.m. Working Group Reports

2:15 p.m. Advisory Board Discussion and Recommendations to the BLM

5:00 p.m. Adjourn

The meeting site is accessible to individuals with disabilities. An individual with a disability needing an auxiliary aid or service to participate in the meeting, such as an interpreting service, assistive listening device, or materials in an alternate format, must notify Ms. DeLorme 2 weeks before the scheduled meeting date. Although the BLM will attempt to meet a request received after that date, the requested auxiliary aid or service may not be available because of insufficient time to arrange it.

The Federal Advisory Committee Management Regulations at 41 CFR 101-6.1015(b), requires the BLM to publish in the Federal Register notice of a public meeting 15 days prior to the meeting date.

II. Public Comment Procedures

On Monday, April 14, 2014, at 3 p.m., members of the public will have the opportunity to make comments to the Board on the Wild Horse and Burro Program. Persons wishing to make comments during the Monday meeting should register in person with the BLM by 2 p.m. on April 14, 2014, at the meeting location. Depending on the number of commenters, the Advisory Board may limit the length of comments. At previous meetings, comments have been limited to 3 minutes in length; however, this time may vary. Commenters should address the specific wild horse and burro-related topics listed on the agenda. Speakers are requested to submit a written copy of their statement to the address listed in the “ADDRESSES” section above or bring a written copy to the meeting. There may be a webcam present during the entire meeting and individual comments may be recorded.

Participation in the Advisory Board meeting is not a prerequisite for submission of written comments. The BLM invites written comments from all interested parties. Your written comments should be specific and explain the reason for any recommendation. The BLM appreciates any and all comments. The BLM considers comments that are either supported by quantitative information or studies or those that include citations to and analysis of applicable laws and regulations to be the most useful and likely to influence the BLM's decisions on the management and protection of wild horses and burros.

Before including your address, phone number, email address, or other personal identifying information in your comment, you should be aware that your entire comment—including your personal identifying information—may be made publicly available at any time. While you can ask us in your comment to withhold your personal identifying information from public review, we cannot guarantee that we will be able to do so.

Dated: March 7, 2014.
Gregory Shoop,
Deputy Assistant Director, Resources and Planning.

[FR Doc. 2014-06186 Filed 3-20-14; 8:45 am]

BILLING CODE 4310-84-P